DEPARTMENT OF THE INTERIOR

Fish and Wildlife Service

Availability of Final Clark County Multiple Species Habitat Conservation Plan and Environmental Impact Statement for Clark County, NV

AGENCY: Fish and Wildlife Service, Interior.

ACTION: Notice of availability.

SUMMARY: This notice advises the public of the availability of the Final Clark County Multiple Species Habitat Conservation Plan (Multispecies Plan) and Environmental Impact Statement. Clark County, Nevada; the Cities of Las Vegas, North Las Vegas, Henderson, Boulder City, and Mesquite; and the Nevada Department of Transportation (Applicants) have applied to the Fish and Wildlife Service (Service) for an incidental take permit pursuant to section 10(a)(1)(B) of the Endangered Species Act of 1973, as amended (Act). The proposed 30-year permit would authorize the incidental take of 2 federally-listed threatened and endangered species, and 77 non-listed species of concern in the event these species become listed under the Act during the term of the permit, in connection with economic growth and development of up to 145,000 acres of non-Federal lands in Clark County.

The Service has assisted in the preparation of the Final Multispecies Plan and an Implementation Agreement (legal contract). We also have directed the preparation of a Final Environmental Impact Statement addressing the potential effects on the human environment that may result from the granting of an incidental take permit and other Federal actions associated with implementation of the Multispecies Plan.

DATES: We will issue a Record of Decision and make a permit decision no sooner than October 23, 2000.

ADDRESSES: See SUPPLEMENTARY INFORMATION for addresses of locations where you may review copies of the documents.

FOR FURTHER INFORMATION CONTACT: Mr. Bob Williams, Field Supervisor of the Nevada Fish and Wildlife Office in Reno, at (775) 861-6331; or Ms. Janet Bair, Assistant Field Supervisor of the Southern Nevada Field Office in Las Vegas, at (702) 647-5230.

SUPPLEMENTARY INFORMATION:

Availability of Documents

Copies of the Final Multispecies Plan/Environmental Impact Statement, and associated Implementation Agreement, are available for review at the following government offices and libraries:

Government Offices—Fish and Wildlife Service, Southern Nevada Field Office, 1510 North Decatur Boulevard, Las Vegas, Nevada 89108, (702) 647-5230; Fish and Wildlife Service, Nevada Fish and Wildlife Office, 1340 Financial Boulevard, Suite 234, Reno, Nevada 89502, (775) 861-6300; Bureau of Land Management, Las Vegas Field Office, 4765 Vegas Drive, Las Vegas, Nevada 89108, (702) 647-5000; U.S. Forest Service, 2881 South Valley View Boulevard, Las Vegas, Nevada 89102, (702) 873-8800; National Park Service, Lake Mead National Recreation Area, 601 Nevada Highway, Boulder City, Nevada 89005, (702) 293-8946; Nevada Department of Transportation, Environmental Services Division, 1263 South Stewart Street, Room 104A, Carson City, Nevada 89712, (775) 888-7889; Clark County Department of Comprehensive Planning, 500 South Grand Central Parkway, Third Floor, Las Vegas, Nevada 89155, (702) 455-3859; Clark County Northeast Office, Moapa Community Center, 320 North Moapa Valley Boulevard, Overton, Nevada, 89040, (702) 397-6475; City of Las Vegas, Department of Public Works, 731 South Fourth Street, Las Vegas, Nevada 89101, (702) 229-6541; City of North Las Vegas Public Works, 2266 Civic Center Drive, North Las Vegas, Nevada 89030, (702) 633-1225; City of Henderson, 240 Water Street, Henderson, Nevada 89015, (702) 565-2474; City of Boulder City, City Hall, 401 California Avenue, Boulder City, Nevada 89005, (702) 293-9200; and the City of Mesquite, 10 East Mesquite Boulevard, Mesquite, Nevada 89027, (702) 346-2835.

Library—Clark County Public Library, Main Branch, 833 Las Vegas Boulevard North, Las Vegas, Nevada 89101, (702) 382-3493.

Alternatively, you may view the Final Multispecies Plan/Environmental Impact Statement at the following website: www.co.clark.nv.us. Click on “Health and the Environment,” then click on “Environmental Planning,” and finally click on “Habitat Conservation.”

A CD-ROM copy of the document is also available by calling Ms. Sandy Helvey, Administrative Secretary, Clark County Department of Comprehensive Planning, at (702) 455-4181. To view the document, you will need access to an IBM or Macintosh computer with the capacity to read CD-ROMs.

Background

Section 9 of the Act and Federal regulation prohibit the “take” of animal species listed as endangered or threatened. The Act defines “take” as: To harass, harm, pursue, hunt, shoot, wound, kill, trap, capture or collect listed animal species, or attempt to engage in such conduct (16 USC 1538). “Harm” is further defined by regulation as any act that kills or injures wildlife including significant habitat modification or degradation where it actually kills or injures wildlife by significantly impairing essential behavioral patterns, including breeding, feeding, or sheltering (50 CFR 17.3). Under certain circumstances, the Service may issue permits to authorize “incidental” take of listed animal species (defined by the Act as take that is incidental to, and not the purpose of, the carrying out of an otherwise lawful activity). The taking prohibitions of the Act do not apply to listed plants on private land unless their destruction on private land is in violation of State law. The Applicants have considered plants in the Multispecies Plan and request permits for them to the extent that State law applies. Regulations governing permits for threatened and endangered species, respectively, are at 50 CFR 17.32 and 50 CFR 17.22.

On July 11, 1995, the Service issued an incidental take permit, effective August 1, 1995, to Clark County; the Cities of Las Vegas, North Las Vegas, Henderson, Mesquite, and Boulder City; and the Nevada Department of Transportation for the Clark County Desert Conservation Plan (Desert Conservation Plan). This plan provides conservation measures for the threatened desert tortoise (Gopherus agassizii), in Clark County. The associated permit authorizes incidental take of the desert tortoise in Clark County consistent with the long-term viability of the species in this portion of its range.

The Desert Conservation Plan includes provisions for a proactive approach to conservation planning for multiple species in Clark County. The intent was to reduce the likelihood of future listings of plants and wildlife as threatened or endangered under the Act. The Multispecies Plan is the direct outgrowth of provisions of the Desert Conservation Plan and will provide stand-alone conservation measures for species included in the plan. We anticipate that implementation of the conservation measures in the Multispecies Plan will be a cooperative effort among the Applicants, the Service, Bureau of Land Management, U.S. Forest Service, National Park Service, Nevada Division of Wildlife, and other Federal and State land managers and regulators.

Clark County and the Cities of Las Vegas, North Las Vegas, Henderson, Mesquite, and Boulder City are seeking a 30-year permit for the incidental take of federally-listed threatened and endangered species, and other non-listed species of concern in the event that these species become listed under the Act during the term of the permit, in connection with the development of non-Federal lands within Clark County, Nevada. In addition, the Nevada Department of Transportation has joined as an Applicant for the permit to allow the incidental take of desert tortoise within desert tortoise habitat below 5,000 feet in elevation and south of the 38th parallel in Nye, Lincoln, Mineral, and Esmeralda Counties, Nevada, and the incidental take of other non-listed species of concern within Clark County in connection with the construction and maintenance of roads, highways, and material sites.

The permit to the Applicants would authorize incidental take of 79 species on no more than 145,000 acres of land potentially available for development in Clark County. This acreage includes non-Federal lands that currently exist and non-Federal lands which result from sales or transfers from the Federal government after the issuance of the permit. This acreage excludes existing development, the Boulder City Conservation Easement established under the current Desert Conservation Plan for the desert tortoise, and State lands managed for resource values. The 79 species proposed for incidental take coverage under the Multispecies Plan (covered species) include 2 listed species (the desert tortoise and the southwestern willow flycatcher, Empidonax traillii extimus), 1 candidate for listing (Blue Diamond cholla, Opuntia whipplei var. multigeniculata), and 76 unlisted species including 4 mammals, 7 birds, 14 reptiles, 1 amphibian, 10 invertebrates, and 40 plants.

To minimize and mitigate the impacts of take of species, the Applicants propose to impose a $550-per-acre development fee and maintain an endowment fund that will provide up to $4.1 million per biennial period to fund conservation measures for covered species and to administer the Multispecies Plan. The plan includes measures to implement a public information and education program; purchase grazing allotments and interest in real property and water; maintain and manage allotments, land, and water rights which have been acquired; construct barriers to wildlife movement along linear features such as roads; translocate displaced desert tortoises; participate in and fund local habitat rehabilitation and enhancement programs; and develop and implement an adaptive management process that allows for responses to new information.

The underlying purpose of the Multispecies Plan is to achieve a balance between (1) long-term conservation of natural habitat and native plant and animal diversity that are an important part of the natural heritage of Clark County, and (2) the orderly and beneficial use of land in order to promote the economy, health, well-being, and custom and culture of the growing population of Clark County, Nevada.

On March 3, 1997, the Service published a notice in the Federal Register (62 FR 9443) announcing that the we would take the lead in preparing an Environmental Impact Statement addressing the Federal actions associated with the Multispecies Plan. The notice invited comments on the scope of the Environmental Impact Statement. Our consideration of the comments received were reflected in the Draft Multispecies Plan/Environmental Impact Statement made available for comment (65 FR 36709).

The Draft Multispecies Plan/Environmental Impact Statement analyzed the potential environmental impacts that may result from the Federal action requested in support of the proposed development of up to 145,000 acres of non-Federal land in Clark County, and identified various alternatives, including the No Action Alternative, the Proposed Multispecies Plan, the Low Elevation Ecosystems Multispecies Plan, a Permit Only for Threatened or Endangered and Candidate Species, and Alternative Permit Durations for the Multispecies Plan. Alternatives considered but not advanced for further analysis included a Permit to Include the Entire Mojave Desert Ecosystem, a Permit to Mitigate Impacts Only on Non-Federal Lands, and a High Elevation Ecosystems Multispecies Plan.

The analysis provided in the Final Multispecies Plan/Environmental Impact Statement is intended to accomplish the following: Inform the public of the proposed action and alternatives; address public comment received during the scoping period; disclose the direct, indirect, and cumulative environmental effects of the proposed action and each of the alternatives; and indicate any irreversible commitment of resources that would result from implementation of the proposed action.

Dated: September 14, 2000.
Elizabeth H. Stevens,
Deputy Manager, Region 1, California/Nevada Operations Office, Sacramento, California.

[FR Doc. 00-24199 Filed 9-21-00; 8:45 am]

BILLING CODE 4310-55-P